DEPARTMENT OF HEALTH AND HUMAN SERVICES

Centers for Disease Control and Prevention

[Program Announcement 03042]

Expansion of HIV/AIDS, STD and TB Laboratory Activities at the National Institute for Communicable Diseases (NICD) in the Republic of South Africa Notice of Intent To Fund Single Eligibility Award

A. Purpose

The Centers for Disease Control and Prevention (CDC) announces the intent to award fiscal year (FY) 2003 funds for a cooperative agreement program for the expansion of HIV/AIDS, STD and TB laboratory activities in the Republic of South Africa. The Catalog of Federal Domestic Assistance Number for this program is 93.941.

B. Eligible Applicant

Assistance will be provided only to the National Institute of Communicable Diseases (NICD) in South Africa. NICD has the legal authority, expertise, and capacity to perform the key public health role of monitoring communicable diseases such as AIDS, sexually transmitted diseases, and tuberculosis in South Africa.

C. Funding

Approximately $500,000 is available in FY 2003 to fund this award. It is expected that the award will begin on or about March 1, 2003, and will be made for a 12-month budget period within a project period of up to five years. Funding estimates may change.

D. Where To Obtain Additional Information

For general comments or questions about this announcement, contact: Technical Information Management, CDC Procurement and Grants Office, 2920 Brandywine Road, Atlanta, GA 30341-4146. Telephone: 770-488-2700.

For technical questions about this program, contact: David M. Allen, M.D., M.P.H., CDC Global AIDS Program, U.S. Embassy, P.O. Box 9536, Pretoria, South Africa 0001, Telephone: 27 12 346 0170, E-mail: allend@sacdc.co.za.

Dated: March 11, 2003.
Sandra R. Manning,
Director, Procurement and Grants Office, Centers for Disease Control and Prevention.

[FR Doc. 03-6264 Filed 3-14-03; 8:45 am]

BILLING CODE 4163-18-P